DEPARTMENT OF THE INTERIOR

Fish and Wildlife Service

[Docket No. FWS-HQ-IA-2018-0052; FXIA16710900000-178-FF09A30000]

Foreign Endangered Species; Marine Mammals; Receipt of Permit Applications

AGENCY: Fish and Wildlife Service, Interior.

ACTION: Notice of receipt of permit applications.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is issued that allows such activities. The ESA and MMPA also require that we invite public comment before issuing permits for endangered species or marine mammals.

DATES: We must receive comments by December 19, 2018.

ADDRESSES: Obtaining Documents: The applications, application supporting materials, and any comments and other materials that we receive will be available for public inspection at http://www.regulations.gov in Docket No. FWS-HQ-IA-2018-0052.

Submitting Comments: When submitting comments, please specify the name of the applicant and the permit number at the beginning of your comment. You may submit comments by one of the following methods:

• Internet: http://www.regulations.gov. Search for and submit comments on Docket No. FWS-HQ-IA-2018-0052.

• U.S. mail or hand-delivery: Public Comments Processing, Attn: Docket No. FWS-HQ-IA-2018-0052; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments on http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(a)(1)(A) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA prohibits/ESA and MMPA prohibit/MMPA prohibits activities with listed species unless Federal authorization is issued that allows such activities. Permits issued under section 10 of the ESA allow activities for scientific purposes or to enhance the propagation or survival of the affected species. Regulations regarding permit issuance under the ESA are in title 50 of the Code of Federal Regulations in part 17. ESA permits cover a wide range of activities pertaining to foreign listed species, including import, export, and activities in the United States. Concurrent with publishing this notice in the Federal Register, we are forwarding copies of the marine mammal applications to the Marine Mammal Commission and the Committee of Scientific Advisors for their review.

III. Permit Applications

We invite comments on the following applications.

A. Endangered Species

Applicant: Omaha's Henry Doorly Zoo & Aquarium, Omaha, NE; Permit No. 78380C

The applicant requests a permit to import one live captive-bred male Siberian tiger (Panthera tigris altaica) Zoo de Granby, Granby, Quebec, Canada for the purpose of enhancing the propagation or survival of the species. This notification is for a single import.

Applicant: U.S. Geological Survey, Missoula, MT; Permit No. 80989C

The applicant requests authorization to import skin and mouth swabs from wild Sonora tiger salamanders (Ambystoma tigrinum stebbinsi), taken in Sonora, Mexico, for the purpose of scientific research. This notification covers activities to be conducted by the applicant over a 5-year period.

Applicant: University of Texas at Arlington, Amphibian and Reptile Diversity Research Center, Arlington, TX, Permit No. 93328C

The applicant requests authorization to export and reimport nonliving museum specimens of endangered and threatened species previously accessioned into the applicant's collection for scientific research. This notification covers activities to be conducted by the applicant over a 5-year period.

Applicant: University of Utah dba Natural History Museum of Utah, Salt Lake City, UT; Permit No. 166772

The applicant requests authorization to export and reimport nonliving museum specimens of endangered and threatened species previously accessioned into the applicant's collection for scientific research. This notification covers activities to be conducted by the applicant over a 5-year period.

Applicant: Oregon Wildlife Foundation, Douglas, AZ; Permit No. 60203C

The applicant requests a captive-bred wildlife registration under 50 CFR 17.21(g) for slender-horned gazelle (Gazella leptoceros) to enhance the propagation or survival of the species. This notification covers activities to be conducted by the applicant over a 5-year period.

Applicant: Maria de Lourdes Martinez Estevez, University of California Santa Cruz, Santa Cruz, CA; Permit No. 77865C

The applicant requests a permit to import 189 skin and shell samples derived from the hawksbill sea turtles (Eretmochelys imbricata) from Grupo Tortuguero de las Californias A.C., La Paz, Baja California Sur, Mexico, for scientific research purposes. This notification is for a single import.

Applicant: Arthur Bogan, NC Museum of Natural Sciences, Raleigh, NC; Permit No. 86122C

The applicant requests authorization to export biological samples from captive bred Louisiana pearlshell mussels (Margaritifera hembeli) and Alabama pearlshell mussels (Margaritifera marrianae) for the purpose of scientific research. This notification covers activities to be conducted by the applicant over a 5-year period.

Applicant: Turtle Back Zoo, West Orange, NJ; Permit No. 75693A

The applicant requests a captive-bred wildlife registration under 50 CFR 17.21(g) for the following species: Komodo monitor (Varanus komodoensis), African penguin (Spheniscus demersus), Andean condor (Vultur gryphus), white-naped crane (Grus vipio), white-cheeked gibbon (Nomascus leucogenys), maned wolf (Chrysocyon brachyurus), snow leopard (Uncia uncia), spotted leopard (Panthera pardus), and African lion (Panthera leo), to enhance the propagation or survival of the species. This notification covers activities to be conducted by the applicant over a 5-year period.

Applicant: Great Plains Zoo, Sioux Falls, SD; Permit No. 84932C

The applicant requests a captive-bred wildlife registration under 50 CFR 17.21(g) for the following species: Ring-tailed lemur (Lemur catta), Siamang gibbon (Symphalangus syndactylus), Siberian tiger (Panthera tigris altaica), snow leopard (uncia uncia), African lion (Panthera leo), black rhinoceros (Diceros bicornis), African wild dog (Lycaon pictus), cheetah (Acinonyx jubatus), Komodo monitor (Varanus komodoensis), Galapagos tortoise (Chelonoidis nigra), Panamanian golden frog (Atelopus varius zeteki), and Chinese alligator (Alligator sinensis), to enhance the propagation or survival of the species. This notification covers activities to be conducted by the applicant over a 5-year period.

Applicant: Surprise Spring Foundation, Prescott, AZ; Permit No. 93748A

The applicant requests a captive-bred wildlife registration under 50 CFR 17.21(g) for the following species: radiated tortoise (Astrochelys radiata), yellow-spot river turtle (Podocnemis unifilis), Galapagos tortoise (Chelonoidis nigra), and spotted pond turtle (Geoclemys hamiltonii) to enhance the propagation or survival of the species. This notification covers activities to be conducted by the applicant over a 5-year period.

Applicant: Michael Burroughs, Las Vegas, NV; Permit No. 94167A

The applicant requests renewal of a captive-bred wildlife registration under 50 CFR 17.21(g) for radiated tortoise (Astrochelys radiata) to enhance the propagation or survival of the species. This notification covers activities to be conducted by the applicant over a 5-year period.

Applicant: Kevin Loewengruber, Southgate, MI; Permit No. 84345C

The applicant requests a captive-bred wildlife registration under 50 CFR 17.21(g) for radiated tortoise (Astrochelys radiata) to enhance the propagation or survival of the species. This notification covers activities to be conducted by the applicant over a 5-year period.

Applicant: H. Yturria Land and Cattle Co., Brownsville, TX; Permit No. 86124C

The applicant requests a permit authorizing the culling of excess red lechwe (Kobus leche) from the captive herd maintained at their facility, to enhance the species' propagation and survival. This notification covers activities to be conducted by the applicant over a 5-year period.

Multiple Applicants

The following applicants request permits to import sport-hunted trophies of male bontebok (Damaliscus pygargus pygargus) culled from a captive herd maintained under the management program of the Republic of South Africa, for the purpose of enhancing the propagation or survival of the species.

Applicant: Richard Prager, Greenwich, CT; Permit No. 93301C

Applicant: Roger Bennett, Ardmore, TN; Permit No. 93048C

Applicant: Ronald Williams, Midland, TX; Permit No. 87946C

Applicant: Aaron Kik, Lowell, MI; Permit No. 87966C

Applicant: John Lortscher, Moneta, VA; Permit No. 90004C

Applicant: Mike Cunningham, Georgetown, TX; Permit No. 86992C

B. Endangered Marine Mammals and Marine Mammals

Applicant: U.S. Fish and Wildlife Service, Anchorage, AK; Permit No. 82088B

The applicant requests authorization to renew and amend their permit to conduct research activities on polar bears (Ursus maritimus) and export and import biological samples for the purpose of scientific research. This notification covers activities to be conducted by the applicant over a 5-year period.

IV. Next Steps

If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations, and the Marine Mammal Protection Act of 1972, as amended (16 U.S.C. 1361 et seq.), and its implementing regulations.

Brenda Tapia,
Program Analyst/Data Administrator, Branch of Permits, Division of Management Authority.

[FR Doc. 2018-25120 Filed 11-16-18; 8:45 am]

BILLING CODE 4333-15-P